DEPARTMENT OF ENERGY

Federal Energy Regulatory Commission

[Project No. 1888-030]

York Haven Power Company, LLC; Notice of Application Tendered for Filing With the Commission and Establishing Deadline for Submission of Final Amendments

Take notice that the following hydroelectric application has been filed with the Commission and is available for public inspection.

a. Type of Application: New Major License.

b. Project No.: 1888-030.

c. Date Filed: August 30, 2012.

d. Applicant: York Haven Power Company, LLC.

e. Name of Project: York Haven Hydroelectric Project.

f. Location: On the Susquehanna River, in Dauphin, Lancaster, and York Counties, Pennsylvania. The project does not occupy any federal lands.

g. Filed Pursuant to: Federal Power Act, 16 U.S.C. 791 (a)-825(r).

h. Applicant Contact: David R. David, York Haven Power Company, York Haven Hydro Station, P.O. Box 67, York Haven, PA 17370, at (717) 266-9470 or email at DDavid@yorkhavenpower.com and Dennis T. O'Donnell, Olympus Power, LLC, 67 Park Place East, Morristown, NJ 07960.

i. FERC Contact: Emily Carter, (202) 502-6512 or emily.carter@ferc.gov.

j. This application is not ready for environmental analysis at this time.

k. The Project Description: The York Haven Project consists of a headrace wall, main dam, east channel dam, powerhouse, and forebay bulkhead. The stone masonry headrace wall extends 3,000 feet upstream from the north end of the powerhouse and, with an average height of 20 feet, directs flow to the powerhouse. The main dam is attached to the north end of the headrace where it runs diagonally across the main channel of the river approximately 4,970 feet to the west shore of Three Mile Island. The main dam is constructed of concrete fill, and has a maximum height at the crest of 17 feet and an average height of 10 feet. The east channel dam consists of a concrete gravity dam that extends approximately 950 feet east from the east shore of Three Mile Island to the east bank of the river. The east channel dam has an average height of 10 feet. The stone masonry forebay bulkhead wall, 155 feet long, extends west from the south end of the powerhouse to the transformer building, perpendicular to the shoreline. From the transformer building, the forebay bulkhead wall extends 475 feet north along the property line to the west bank of the river. A 14-foot-wide by 10.5-foot-tall trash sluice gate and associated spillway are located adjacent to the southern end of the powerhouse at the eastern end of the forebay wall.

York Haven's main dam and east channel dam impound the Susquehanna River, forming Lake Frederic that extends 3.5 miles upstream from the dam. Total storage in the 1,849-acre reservoir is approximately 8,000 acre-feet, and total useable storage is approximately 1,980 acre-feet. The current FERC license allows a 1.1-foot fluctuation in the project impoundment, but is not used under normal run-of-river operation. The normal water surface elevation of the project impoundment is 276.5 feet. The elevation of the normal river surface below the dam is approximately 251.40 feet. The impoundment provides approximately 22.5 feet of net head for power generation purposes.

The brick and stone masonry powerhouse has approximate dimensions of 470 feet by 48 feet and is located at the southern end of the headrace wall and at the eastern end of the forebay bulkhead wall. The powerhouse includes 20 turbine-generator units and appurtenant equipment. The hydraulic equipment for units 1-3 are vertical-shaft, fixed-blade, Kaplan turbines; unit 4 is a vertical-shaft, manually adjustable blade, Kaplan turbine; units 5 and 6 are vertical-shaft, fixed-blade, propeller-type turbines; units 7, 8, 10-13, and 15-20 each consist of two vertical-shaft, Francis turbines connected through bevel gears to a single horizontal shaft; unit 9 is a two vertical-shaft, Francis turbine connected through a gearbox to a single horizontal shaft; and unit 14 is a vertical-shaft, Francis turbine. Units 1-5 have 1.6-MW generators; unit 6 has a 1.32-MW generator; unit 14 has a 1.2-MW generator; and units 7-13 and 15-20 have 0.7-MW generators. Water flowing through the turbines is discharged into the tailrace immediately downstream of the dam.

Electricity generated at the project is transmitted by 115-kilovolt (kV) transmission lines extending from the project substation to the grid.

The York Haven Project has an authorized nameplate generating capacity of 19.65 MW and generates an average of 130,812 MWh annually. York Haven Power is currently studying the feasibility of providing a nature-like fishway to enhance fish passage facilities at the project.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: A preliminary Hydro Licensing Schedule will be provided in a subsequent notice.

o. Final amendments to the application must be filed with the Commission no later than 30 days from the issuance date of the notice of ready for environmental analysis.

Dated: September 13, 2012.
Kimberly D. Bose,
Secretary.

[FR Doc. 2012-23227 Filed 9-19-12; 8:45 am]

BILLING CODE 6717-01-P